DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Locomotive and Tower Preservation, Ltd.

[Docket Number FRA-2002-13810]

The Locomotive and Tower Preservation, Ltd. seeks a waiver of compliance, number FRA-2002-13810, with the Inspection and Maintenance Standards for Steam Locomotives, 49 CFR Part 230, published November 17, 1999. Section 230.3(c)(1) of the standards requires steam locomotives having flue tubes replaced after September 25, 1995, must request a Special Consideration to come under the new requirements by January 18, 2001, or have a 1,472-service-day inspection [49 CFR 230.17] performed prior to being allowed to operate under the requirements. The Locomotive and Tower Preservation, Ltd, seeks an extension of time beyond January 18, 2001, to file for a Special Consideration for Soo Line steam locomotive number 2719, which had the flue tubes replaced and was returned to service July 28, 1998.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2002-13810) and must be submitted to the Docket Clerk, DOT Central Docket Management Facility, 700 4th Street, SW., Room PL-401 (Plaza Level), Washington, DC 20590-0001. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC on December 23, 2002.
Grady C. Cothen, Jr.,
Deputy Associate Administrator for Safety Standards and Program Development.

[FR Doc. 02-32943 Filed 12-27-02; 8:45 am]

BILLING CODE 4910-06-P